DEPARTMENT OF TRANSPORTATION

Federal Highway Administration

Notice of Final Federal Agency Actions on Proposed Highway in North Carolina

AGENCY: Federal Highway Administration (FHWA), DOT.

ACTION: Notice of limitations on claims for judicial review of actions by FHWA and other federal agencies.

SUMMARY: This notice announces action taken by the FHWA and other federal agencies that is final within the meaning of 23 U.S.C. 139(l)(1). This final agency action relates to a proposed highway project, Bonner Bridge Replacement Project along NC 12, from Rodanthe to Bodie Island in Dare County, North Carolina. The FHWA's Record of Decision (ROD) identifies the Bridge on New Location as the selected alternative for Phase IIb (Rodanthe Breach) of the Bonner Bridge Replacement Project.

DATES: By this notice, the FHWA is advising the public of final agency actions subject to 23 U.S.C. 139(l)(1). A claim seeking judicial review of the Federal agency actions on the highway project will be barred unless the claim is filed on or before June 12, 2017. If the Federal law that authorizes judicial review of a claim provides a time period of less than 150 days for filing such claim, then that shorter time period still applies.

FOR FURTHER INFORMATION CONTACT: For FHWA: Clarence W. Coleman, P.E., Director of Preconstruction and Environment, Federal Highway Administration, North Carolina Division, 310 New Bern Avenue, Suite 410, Raleigh, North Carolina 27601-1418; Telephone: (919) 747-7014; email: clarence.coleman@dot.gov. FHWA North Carolina Division Office's normal business hours are 8 a.m. to 5 p.m. (Eastern Time). For the North Carolina Department of Transportation (NCDOT): Rodger Rochelle, Director of Technical Services, North Carolina Department of Transportation (NCDOT), 1548 Mail Service Center, Raleigh, North Carolina 27699-1548; Telephone (919) 707-2900; email: rdrochelle@ncdot.gov. NCDOT Technical Services Division Office's normal business hours are 8 a.m. to 5 p.m. (Eastern Time).

SUPPLEMENTARY INFORMATION: Notice is hereby given that FHWA has taken final agency action by issuing a Record of Decision (ROD) for the following highway project in the State of North Carolina: Rodanthe Breach Long-Term Improvements for Phase IIb of the Bonner Bridge Replacement Project along Highway NC 12 in Dare County, North Carolina. The project is also known as State Transportation Improvement Program (STIP) Project B-2500B, and is part of the second phase (Phase IIb) of the Parallel Bridge Corridor/Transportation Management Plan (PBC/TMP), which was identified as the selected alternative for the Bonner Bridge Replacement Project (STIP No. B-2500) in the Record of Decision (ROD) approved by FHWA on December 20, 2010. The NC 12 PBC/TMP addresses the length of the entire project for STIP No. B-2500, from the Village of Rodanthe to Bodie Island. The TMP is guiding the implementation of future phases of the project through 2060.

Located along the Outer Banks of North Carolina, the selected alternative for Phase IIb is approximately 2.8 miles in length, including a 2.4‐mile long bridge on new location. The proposed alignment for NC 12 would leave the existing NC 12 alignment within the Pea Island National Wildlife Refuge at a point approximately 1.8 miles north of the Refuge boundary and enter Pamlico Sound. The bridge would be in Pamlico Sound until a point north of the Rodanthe emergency ferry terminal, where NC 12 would turn east and enter Rodanthe. The bridge extends approximately 1,400 feet west of the Pamlico Sound shoreline at its farthest point. The Rodanthe area was breached as a result of Hurricane Irene in August 2011 and remains susceptible to breaches at the south end of the Refuge and Rodanthe, as well as the Rodanthe `S' Curves Hot Spot that experiences high erosion rates.

The FHWA's action, related actions by other Federal agencies and the laws under which such actions were taken, are described in the Final Environmental Impact Statement (FEIS)/Final Section 4(f) Evaluation for the project, approved on September 17, 2008; the Revised Final Section 4(f) Evaluation, approved on October 9, 2009; the Environmental Assessment, approved on May 7, 2010; the FHWA ROD approved on December 20, 2010 for Phase I and the PBC/TMP for the remainder of the project; the Phase IIb Environmental Assessment, approved December 3, 2013; a Revised Phase IIb Environmental Assessment, approved May 24, 2016, the FHWA ROD for Phase IIb approved on December 15, 2016 and other documents in the project file. The above documents are available for review by contacting the FHWA or the NCDOT at the addresses provided above. In addition, these documents can be viewed and downloaded from the project Web site at http://www.ncdot.gov/projects/bonnerbridgereplace/.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Coastal Barrier Resources Act [16 U.S.C. 3501-3510].

4. Wildlife: Endangered Species Act [16 U.S.C. 1531-1544]; Marine Mammal Protection Act [16 U.S.C. 1361-1407]; Anadromous Fish Conservation Act [16 U.S.C. 757(a)-757(g)]; Fish and Wildlife Coordination Act [16 U.S.C. 661-667(d)]; Migratory Bird Treaty Act [16 U.S.C. 703-712]; Magnuson-Stevenson Fishery Conservation and Management Act [16 U.S.C. 1801 et seq.].

5. Historic and Cultural Resources: Section 106 of the National Historic Preservation Act of 1966 [16 U.S.C. 470(f)].

6. Social and Economic: Civil Rights Act of 1964 [42 U.S.C. 2000(d)-2000(d)(1)].

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA; 42 U.S.C. 11011 et seq.); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species; and E.O. 13186—Responsibilities of Federal Agencies to Protect Migratory Birds.

This notice does not apply to those pending environmental permitting decisions. (Catalog of Federal Domestic Assistance Program Number 20.205, Highway Research, Planning and Construction. The regulations implementing Executive Order 12372 regarding intergovernmental consultation on Federal programs and activities apply to this program.)

Authority: 23 U.S.C. 139(l)(1).

Issued on: December 22, 2016.
Clarence W. Coleman,
Director of Preconstruction and Environment, Raleigh, North Carolina.

[FR Doc. 2017-00554 Filed 1-12-17; 8:45 am]

BILLING CODE 4910-RY-P